DEPARTMENT OF HOUSING AND URBAN DEVELOPMENT

[Docket No. FR-7040-N-02; OMB Control No. 2577-0161]

60-Day Notice of Proposed Information Collection: Public Housing Contracting With Resident-Owned Business/Application Requirements

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 26, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Dacia Rogers, Office of Policy, Programs and Legislative Initiatives, PIH, Department of Housing and Urban Development, 451 7th Street SW, (Room 3178), Washington, DC 20410; telephone 202-402-3374, (this is not a toll-free number). Persons with hearing or speech impairments may access this number via TTY by calling the Federal Relay Service at (800) 877-8339. Copies of available documents submitted to OMB may be obtained from Ms. Rogers.

SUPPLEMENTARY INFORMATION: This notice informs the public that HUD is seeking approval from OMB for the information collection described in Section A.

A. Overview of Information Collection

Title of Information Collection: Public Housing Contracting with Resident-Owned Businesses/Application Requirements.

OMB Approval Number: 2577-0161.

Type of Request: Revision of a currently approved collection.

Form Numbers: N/A.

Description of the need for the information and proposed use: PHAs that enter contracts with resident-owned businesses prior to December 26, 2014 must comply with the requirements/procedures set forth in, 24 CFR 85.36(h) and 24 CFR 85.36(i). Contracts with resident-owned businesses entered after December 26, 2014 must also comply with 24 CFR part 963, 2 CFR 200.325, 2 CFR 200.326 and other such contract terms that may be applicable to procurement under the Department's regulations. These requirements include:

• Certified copies of any State, county, or municipal licenses that may be required of the business to engage in the type of business activity for which it was formed. Where applicable, the PHA must obtain a certified copy of its corporate charter or other organizational document that verifies that the business was properly formed in accordance with State law.

• Certification that shows the business is owned by residents, disclosure documents that indicate all owners of the business and each owner's percentage of the business along with sufficient evidence that demonstrates to the satisfaction of the PHA that the business has the ability to perform successfully under the terms and conditions of the proposed contract.

• Certification as to the number of contracts awarded, and the dollar amount of each contract award received under the alternative procurement process; and

• Contract award documents, proof of bonding documents, independent cost estimates and comparable price analyses.

Members of Affected Public: Public Housing Agencies and Applicable Resident Entrepreneurs.

Estimation of the Total number of hours needed to prepare the information collection including number of respondents, frequency of response, and hours of response: Estimated number of respondents: 76. The calculation for burden hours is as follows: Calculation for number of respondents: 76 (estimated number of PHAs contracting with resident owned businesses) × 24 (number of hours for procurement process) = 1,824 total hours. The Department estimates that out of a total of 3,775 ¹ PHAs only 2 percent or 76 PHAs contract with resident owned business. This number is less than the previous request due to several PHAs choosing to leave the program.

¹ Inventory Management/Public Housing Information Center (IMS/PIC) system, 10/26/2020.

The national average PHA staff salary = $51,000 ² per year or $24.00 ³ per hour.

² ziprecruiter.com, https://www.ziprecruiter.com/Salaries/Public-Housing-Authority-Salary.

³ Computed Hourly Rates of Pay Using the 2,087-Hour Divisor, https://www.opm.gov/policy-data-oversight/pay-leave/pay-administration/fact-sheets/computing-hourly-rates-of-pay-using-the-2087-hour-divisor/.

The calculation for costs is as follows: 76 PHAs × 24 hours = 1,824 hours × $24 = $43,776.

Information collection | Number of respondents | * Average number of reponses per respondent | Total annual responses | Burden hours/minutes per response | Total hours | Hourly cost | Total annual cost
2577-0161 | 76 | 1 | 76 | 24 | 1,824 | $24.00 | $43,776

Status of the Proposed Information Collection: Meeting HUD Regulation requirements.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: January 8, 2021.
Merrie Nichols-Dixon,
Director, Office of Policy, Program and Legislative Initiatives.

[FR Doc. 2021-01479 Filed 1-22-21; 8:45 am]

BILLING CODE 4210-67-P